DEPARTMENT OF THE TREASURY

Internal Revenue Service

Tax Counseling for the Elderly (TCE) Program Availability of Application Packages; Correction

AGENCY: Internal Revenue Service (IRS), Treasury.

ACTION: Correction to a notice.

SUMMARY: This document contains a correction to a notice of the Tax Counseling for the Elderly (TCE) Program Availability of Application Packages, which was published in the Federal Register on Wednesday, April 28, 2010 (75 FR 22437). This notice provides notice of the availability of application packages for the 2011 Tax Counseling for the Elderly (TCE) Program.

FOR FURTHER INFORMATION CONTACT: The Grant Program Office at (404) 338-7894 (not a toll free number) or by e-mail at tce.grant.office@irs.gov.

SUPPLEMENTARY INFORMATION:

Background

Authority for the 2011 Tax Counseling for the Elderly (TCE) Program for tax return preparation is contained in Section 163 of the Revenue Act of 1978, Public Law 95-600, (92 Stat. 12810), November 6, 1978. Regulations were published in the Federal Register at 44 FR 72113 on December 13, 1979. Section 163 gives the IRS authority to enter into cooperative agreements with private or public non-profit agencies or organizations to establish a network of trained volunteers to provide free tax information and return preparation assistance to elderly individuals. Elderly individuals are defined as individuals age 60 and over at the close of their taxable year. Because applications are being solicited before the FY 2011 budget has been approved, cooperative agreements will be entered into subject to appropriation of funds.

Need for Correction

As published, the notice of the Tax Counseling for the Elderly (TCE) Program contains an error which may prove to be misleading and is in need of clarification.

Correction of Publication

Accordingly, the publication of the Tax Counseling for the Elderly (TCE) Program, which was the subject of FR Doc. 2010-9772, is corrected as follows:

On page 22437, column 3, under the caption DATES: The language “Application packages are available from the IRS at this time. The deadline for submitting an application to the IRS for the Tax Counseling for the Elderly (TCE) Program is July 9, 2010.” is corrected to read “Application packages are available from the IRS beginning June 1, 2010. The deadline for submitting an application to the IRS for the Tax Counseling for the Elderly (TCE) Program is July 9, 2010.” .

LaNita Van Dyke,
Chief, Publications and Regulations Branch, Legal Processing Division, Associate Chief Counsel, (Procedure and Administration).

[FR Doc. 2010-10975 Filed 5-6-10; 8:45 am]

BILLING CODE 4830-01-P